DEPARTMENT OF ENERGY

Federal Energy Regulatory Commission

Combined Notice of Filings

Take notice that the Commission has received the following Natural Gas Pipeline Rate and Refund Report filings:

Filing Instituting Proceedings

Docket Numbers: RP16-274-000.

Applicants: Equitrans, L.P.

Description: § 4(d) rate filing per 154.204: Storage Injections and Withdrawals to be effective 1/1/2016.

Filed Date: 12/2/15.

Accession Number: 20151202-5000.

Comments Due: 5 p.m. ET 12/14/15.

Docket Numbers: RP16-275-000.

Applicants: Gulf South Pipeline Company, LP.

Description: § 4(d) rate filing per 154.204: Rate Case Settlement Amendment Filing 7 to be effective 12/1/2015.

Filed Date: 12/2/15.

Accession Number: 20151202-5033.

Comments Due: 5 p.m. ET 12/14/15.

Docket Numbers: RP16-276-000.

Applicants: Stagecoach Pipeline & Storage Company LL.

Description: Compliance filing per 154.203: Cost and Revenue Study to be effective N/A.

Filed Date: 12/2/15.

Accession Number: 20151202-5158.

Comments Due: 5 p.m. ET 12/14/15.

Docket Numbers: RP16-277-000.

Applicants: Enable Mississippi River Transmission, L.

Description: § 4(d) rate filing per 154.204: Negotiated Rate Filing to Amend LER 5680's Attachment A_12_3_15 to be effective 12/3/2015.

Filed Date: 12/3/15.

Accession Number: 20151203-5048.

Comments Due: 5 p.m. ET 12/15/15.

Docket Numbers: RP16-278-000.

Applicants: Cheyenne Plains Gas Pipeline Company, L.

Description: § 4(d) rate filing per 154.601: Non-Conforming Negotiated Rate Agreement Update (EnCana) to be effective 12/7/2015.

Filed Date: 12/4/15.

Accession Number: 20151204-5133.

Comments Due: 5 p.m. ET 12/16/15.

Docket Numbers: RP16-279-000.

Applicants: Dauphin Island Gathering Partners.

Description: § 4(d) rate filing per 154.204: Texas Eastern Lease Charge Removal to be effective 1/1/2016.

Filed Date: 12/4/15.

Accession Number: 20151204-5141.

Comments Due: 5 p.m. ET 12/16/15.

Docket Numbers: RP16-280-000.

Applicants: Northern Natural Gas Company.

Description: § 4(d) rate filing per 154.204: 20151204 Negotiated Rates to be effective 12/5/2015.

Filed Date: 12/4/15.

Accession Number: 20151204-5232.

Comments Due: 5 p.m. ET 12/16/15.

Docket Numbers: RP16-281-000.

Applicants: Gulf South Pipeline Company, LP.

Description: § 4(d) rate filing per 154.204: Cap Rel Neg Rate Agmt (Encana 37663 to BP 45524) to be effective 12/1/2015.

Filed Date: 12/7/15.

Accession Number: 20151207-5067.

Comments Due: 5 p.m. ET 12/21/15.

Docket Numbers: RP16-282-000.

Applicants: Gulf South Pipeline Company, LP.

Description: § 4(d) rate filing per 154.204: Cap Rel Neg Rate Agmt (QEP 37657 to BP 45523) to be effective 12/1/2015.

Filed Date: 12/7/15.

Accession Number: 20151207-5068.

Comments Due: 5 p.m. ET 12/21/15.

Docket Numbers: RP16-283-000.

Applicants: Gulf South Pipeline Company, LP.

Description: § 4(d) rate filing per 154.204: Cap Rel Neg Rate Agmts (EOG 34687 to Sequent 45550 and Trans LA 45585) to be effective 12/1/2015.

Filed Date: 12/7/15.

Accession Number: 20151207-5070.

Comments Due: 5 p.m. ET 12/21/15.

Docket Numbers: RP16-284-000.

Applicants: Gulf South Pipeline Company, LP.

Description: § 4(d) rate filing per 154.204: Cap Rel Neg Rate Agmts (Atlanta 8438 to various eff 12-1-15) to be effective 12/1/2015.

Filed Date: 12/7/15.

Accession Number: 20151207-5071.

Comments Due: 5 p.m. ET 12/21/15.

Docket Numbers: RP16-285-000.

Applicants: Gulf South Pipeline Company, LP.

Description: § 4(d) rate filing per 154.204: Cap Rel Neg Rate Agmts (Petrohawk 41455 to Texla 45582 and Sequent 45584) to be effective 12/1/2015.

Filed Date: 12/7/15.

Accession Number: 20151207-5072.

Comments Due: 5 p.m. ET 12/21/15.

Docket Numbers: RP16-286-000.

Applicants: Enable Gas Transmission, LLC.

Description: § 4(d) rate filing per 154.204: Negotiated Rate Filing- Thunderbird 1010446 to be effective 12/14/2015.

Filed Date: 12/8/15.

Accession Number: 20151208-5069.

Comments Due: 5 p.m. ET 12/21/15.

Docket Numbers: RP16-287-000.

Applicants: Stagecoach Pipeline & Storage Company LL.

Description: Compliance filing per 154.203: Stagecoach Pipeline & Storage Co. LLC—Compliance with RP15-1218 Order to be effective 1/8/2016.

Filed Date: 12/8/15.

Accession Number: 20151208-5071.

Comments Due: 5 p.m. ET 12/21/15.

Docket Numbers: RP16-288-000.

Applicants: Millennium Pipeline Company, LLC.

Description: § 4(d) rate filing per 154.204: Negotiated Rate Service Agreement—Columbia 165033 to be effective 12/1/2015.

Filed Date: 12/8/15.

Accession Number: 20151208-5152.

Comments Due: 5 p.m. ET 12/21/15.

Docket Numbers: RP16-289-000.

Applicants: Alliance Pipeline L.P.

Description: § 4(d) rate filing per 154.204: Correct BP Name to be effective 12/1/2015.

Filed Date: 12/8/15.

Accession Number: 20151208-5154.

Comments Due: 5 p.m. ET 12/21/15.

Docket Numbers: RP16-290-000.

Applicants: Dominion Transmission, Inc.

Description: § 4(d) rate filing per 154.204: DTI—December 8, 2015 Administrative Changes to be effective 1/8/2016.

Filed Date: 12/8/15.

Accession Number: 20151208-5155.

Comments Due: 5 p.m. ET 12/21/15.

Docket Numbers: RP16-291-000.

Applicants: Alliance Pipeline L.P.

Description: § 4(d) rate filing per 154.204: J. Aron Contract Amendment to be effective 12/1/2015.

Filed Date: 12/9/15.

Accession Number: 20151209-5004.

Comments Due: 5 p.m. ET 12/21/15.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings In Existing Proceedings

Docket Numbers: RP16-37-001.

Applicants: Columbia Gas Transmission, LLC.

Description: Compliance filing per 154.203: Negotiated & Non-Conf ESE Compliance Filing—NJNG to be effective 11/1/2015.

Filed Date: 12/2/15.

Accession Number: 20151202-5161.

Comments Due: 5 p.m. ET 12/14/15.

Docket Numbers: RP16-224-001.

Applicants: Tennessee Gas Pipeline Company, L.L.C.

Description: Compliance filing per 154.203: Cashout Report 2014-2015-Revised Appendix A to be effective N/A.

Filed Date: 12/7/15.

Accession Number: 20151207-5115.

Comments Due: 5 p.m. ET 12/21/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 9, 2015.
Nathaniel J. Davis, Sr.,
Deputy Secretary.

[FR Doc. 2015-31608 Filed 12-15-15; 8:45 am]

BILLING CODE 6717-01-P